DEPARTMENT OF JUSTICE

Notice of Lodging Proposed Consent Decree

In accordance with Departmental Policy, 28 CFR 50.7, notice is hereby given that a proposed Consent Decree in United States v. Howard McKenzie & EBT Property Holding Co., Inc., No. 2:06-CV-02353, was lodged with the United States District Court for the District of South Carolina on August 23, 2006.

The proposed Consent Decree concerns a compliant filed by the United States against Howard McKenzie & EBT Property Holding Co., Inc., pursuant to sections 301 and 404 of the Clean Water Act, 33 U.S.C. 1311 and 1344, with respect to Defendants' alleged violations of the Clean Air Act by discharging pollutants into waters of the United States without a permit. The proposed Consent Decree resolves these allegations by requiring the restoration of the wetlands at issue and the payment of a civil penalty. The Department of Justice will accept written comments relating to this proposed Consent Decree for thirty (30) days from the date of publication of this Notice. Please address comments to Marvin J. Caughman, Assistant United States Attorney, Wachovia Building, Suite 500, 1441 Main Street, Columbia, South Carolina 29201 and refer to United States v. Howard McKenzie & EBT Property Holding Co., Inc., No. 2:06-CV-02353.

The proposed Consent Decree may be examined at the Clerk's Office, United States District Court for the District of South Carolina, United States Courthouse, 901 Richland Lane, Columbia, South Carolina. In addition, the proposed Consent Decree may be viewed at http://www.usdoj.gov/enrd/open.html.

Stephen Samuels,
Assistant Chief, Environmental Defense Section, Environment & Natural Resources Division.

[FR Doc. 06-7265 Filed 8-30-06; 8:45 am]

BILLING CODE 4410-15-M